DEPARTMENT OF THE TREASURY

Office of Foreign Assets Control

Sanctions Actions Pursuant to Executive Orders (E.O.s) 13722 and 13687.

AGENCY: Office of Foreign Assets Control, Treasury.

ACTION: Notice.

SUMMARY: The Treasury Department's Office of Foreign Assets Control (OFAC) is publishing the names of two entities identified as blocked pursuant to E.O. 13722, “Blocking Property of the Government of North Korea and the Workers' Party of Korea, and Prohibiting Certain Transactions With Respect to North Korea,” and of seven individuals whose property and interests in property are blocked pursuant to E.O. 13687, “Imposing Additional Sanctions With Respect to North Korea.”

DATES: OFAC's actions described in this notice were effective on January 11, 2017.

FOR FURTHER INFORMATION CONTACT: The Department of the Treasury's OFAC: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The Specially Designated Nationals and Blocked Persons List and additional information concerning OFAC sanctions programs are available on OFAC's Web site (www.treasury.gov/ofac).

Notice of OFAC Actions

On January 11, 2017, OFAC identified the following two entities as blocked pursuant to E.O. 13722, “Blocking Property of the Government of North Korea and the Workers' Party of Korea, and Prohibiting Certain Transactions With Respect to North Korea”:

Entities

1. MINISTRY OF LABOR, Korea, North [DPRK3].

2. STATE PLANNING COMMISSION, Korea, North [DPRK3].

In addition, on January 11, 2017, OFAC blocked the property and interests in property of the following seven individuals pursuant to E.O. 13687, “Imposing Additional Sanctions With Respect to North Korea”:

Individuals

1. KIM, Won Hong (a.k.a. KIM, Wo'n-hong), Korea, North; DOB 17 Jul 1945; Gender Male; Minister of State Security (individual) [DPRK2].

2. KIM, Yo Jong (a.k.a. KIM, Yo'-cho'ng), Korea, North; DOB 26 Sep 1989; Gender Female; Vice Director of the Workers' Party of Korea Propaganda and Agitation Department (individual) [DPRK2].

3. KIM, Il-Nam (a.k.a. KIM, Il Nam), Korea, North; DOB 09 Apr 1958; Gender Male; Chief, South Hamgyong Province, Ministry of State Security (individual) [DPRK2].

4. CHOE, Hwi, Korea, North; DOB 01 Jan 1954 to 31 Dec 1955; Gender Male; First Vice Director of the Workers' Party of Korea Propaganda and Agitation Department (individual) [DPRK2].

5. JO, Yong-Won (a.k.a. CHO, Yongwon), Korea, North; DOB 24 Oct 1957; Gender Male; Vice Director of the Organization and Guidance Department (individual) [DPRK2].

6. MIN, Byong Chol (a.k.a. MIN, Byong Chun; a.k.a. MIN, Byong-chol; a.k.a. MIN, Pyo'ng-ch'o'l), Korea, North; DOB 10 Aug 1948; Gender Male; Member of the Worker's Party of Korea's Organization and Guidance Department (individual) [DPRK2].

7. KANG, P'il-Hun (a.k.a. KANG, Phil Hun; a.k.a. KANG, Pil Hoon), Korea, North; DOB 11 Jun 1943; Gender Male; Director of the General Political Bureau of the Ministry of People's Security (individual) [DPRK2].

Dated: January 11, 2017.
John E. Smith,
Acting Director, Office of Foreign Assets Control.

[FR Doc. 2017-00920 Filed 1-17-17; 8:45 am]

BILLING CODE 4810-AL-P